DEPARTMENT OF COMMERCE

International Trade Administration

[A-570-863]

Honey From the People's Republic of China: Preliminary Rescission of the New Shipper Review and Preliminary Results of the Administrative Review; 2015-2016

AGENCY: Enforcement and Compliance, International Trade Administration, Department of Commerce.

SUMMARY: The Department of Commerce (the Department) aligned the 2015-2016 new shipper review of the antidumping duty order on honey from the People's Republic of China (PRC) with the 2015-2016 administrative review of the same order covering the same period of review (POR), and is therefore conducting the reviews concurrently. The POR for the administrative review and the new shipper review is December 1, 2015, through November 30, 2016. As discussed below, the Department is preliminarily rescinding the new shipper with respect to Jiangsu Runchen Agricultural/Sideline Foodstuff Co., Ltd. (Jiangsu Runchen) and has preliminarily found that Shanghai Sunbeauty Trading Co., Ltd. (Sunbeauty) is not eligible to receive a separate rate.

DATES: Effective July 7, 2017.

FOR FURTHER INFORMATION CONTACT: Carrie Bethea, AD/CVD Operations, Office V, Enforcement and Compliance, International Trade Administration, U.S. Department of Commerce, 1401 Constitution Avenue NW., Washington, DC 20230; telephone: (202) 482-1491.

SUPPLEMENTARY INFORMATION:

Background

On December 1, 2016, the Department published a notice of opportunity to request an AR of the antidumping duty order on honey from the PRC for the POR.¹ On December 28, 2016, Sunbeauty requested that the Department conduct an administrative review of the sales of subject merchandise exported by Sunbeauty during the POR.² On January 3, 2017, the American Honey Producers Association and Sioux Honey Producers Association (collectively, the petitioners) requested that the Department conduct an administrative review.³ On February 13, 2017, based on the timely requests for administrative review, the Department initiated an administrative review of two exporters/producers, Shayang Xianghe and Sunbeauty.⁴ On February 28, 2017, the petitioners withdrew their request for Shayang Xianghe.⁵ As a result, the Department rescinded the review with respect to Shayang Xianghe.⁶

¹ See Antidumping or Countervailing Duty Order, Finding, or Suspended Investigation; Opportunity to Request Administrative Review, 81 FR 86694 (December 1, 2016).

² See Letter to the Secretary from Sunbeauty re: Request for Administrative Review; 2015-2016, dated December 28, 2016.

³ See Letter to the Secretary from Petitioners re: Request for Administrative Review; 2015-2016, dated January 3, 2017.

⁴ See Initiation of Antidumping and Countervailing Duty Administrative Reviews, 82 FR 10457, 10460 (February 13, 2017) (AR Initiation Notice); see also Letter to the Secretary from Petitioners re: Petitioners' Withdrawal of Request for Administrative Review of Jiangsu Runchen Agricultural/Sideline Foodstuff Co., Ltd., dated January 26, 2017.

⁵ See Letter to the Secretary from Petitioners, re: Petitioners' Withdrawal of Request for 2015/2016 Administrative Review, in Part, dated February 28, 2017.

⁶ See Honey from the People's Republic of China: Notice of Partial Rescission of Antidumping Duty Administrative Review; 2015-2016, 82 FR 14503 (March 21, 2017).

On February 3, 2017, in response to a request from Jiangsu Runchen, the Department published notice of initiation of a new shipper review of honey for the period December 1, 2015, to November 30, 2016.⁷ On February 15, 2017, the Department aligned the new shipper review of honey from the PRC with the concurrent administrative review of honey from the PRC.⁸

⁷ See Honey from the People's Republic of China: Initiation of Antidumping Duty New Shipper Review; 2015-2016, 82 FR 9192 (February 3, 2017) (NSR Initiation Notice); see also Letter to the Secretary from Jiangsu Runchen re: Request for New-Shipper Review, dated December 23, 2017.

⁸ See Memorandum regarding: Alignment of the New Shipper Review of Jiangsu Runchen, dated February 15, 2017.

The Department sent the new shipper review antidumping duty questionnaire to Jiangsu Runchen on February 3, 2017.⁹ The Department issued the administrative review antidumping duty questionnaire to Sunbeauty on February 13, 2017.¹⁰

⁹ See Department Letter re: Antidumping Duty New Shipper Review Questionnaire, dated February 3, 2017.

¹⁰ See Department Letter re: Antidumping Duty Administrative Review Questionnaire, dated February 13, 2017.

Scope of the Order

The products covered by the order are natural honey, artificial honey containing more than 50 percent natural honey by weight, preparations of natural honey containing more than 50 percent natural honey by weight and flavored honey. The subject merchandise includes all grades and colors of honey whether in liquid, creamed, comb, cut comb, or chunk form, and whether packaged for retail or in bulk form.

The merchandise subject to the order is currently classifiable under subheadings 0409.00.00, 1702.90.90, 2106.90.99, 0409.00.0010, 0409.00.0035, 0409.00.0005, 0409.00.0045, 0409.00.0056, and 0409.00.0065 of the Harmonized Tariff Schedule of the United States (HTSUS). Although the HTSUS subheadings are provided for convenience and customs purposes, the Department's written description of the merchandise under the order is dispositive.

Also, included in the scope are blends of honey and rice syrup, regardless of the percentage of honey contained in the blend.

Scope Rulings made between July 1, 2012, and September 30, 2012; Requestor: The American Honey Producers Association and the Sioux Honey Association; blends of honey and rice syrup, regardless of the percentage of honey they contain, are later-developed merchandise that are within the scope of the antidumping duty order; August 21, 2012.

Methodology

The Department is conducting these reviews in accordance with sections 751(a)(1), 751(a)(2)(B)(iv), 751(a)(3), 771(i)(1) of the Act, and 19 CFR 351.213 and 351.214. For a full description of the methodology underlying our conclusions, see the Preliminary Decision Memorandum.

The Preliminary Decision Memorandum is a public document and is on file electronically via Enforcement and Compliance's Antidumping and Countervailing Duty Centralized Electronic Service System (ACCESS). ACCESS is available to registered users at http://access.trade.gov and in the Department's Central Records Unit, room B8024 of the main Department of Commerce building. In addition, a complete version of the Preliminary Decision Memorandum can be accessed directly on the Internet at http://enforcement.trade.gov/frn/. The signed Preliminary Decision Memorandum and the electronic versions of the Preliminary Decision Memorandum are identical in content.

Preliminary Rescission of New Shipper Review

For the reasons detailed in the Preliminary Decision Memorandum, the Department preliminarily finds that we cannot determine whether Jiangsu Runchen made bona fide sale(s) to the United States. Consequently, the Department is preliminarily rescinding the new shipper review of Jiangsu Runchen for the period December 1, 2015, through November 30, 2016.

Preliminary Results of Administrative Review

In making our findings, because Sunbeauty was unable to provide evidence of a suspended entry of subject merchandise into the United States during the POR and is, thus, ineligible to receive a separate rate, we are preliminarily treating Sunbeauty as part of the PRC-wide entity. For a full description of the methodology underlying our preliminary conclusions, see the Preliminary Decision Memorandum.

We preliminarily determine that the following antidumping duty margin exists:

Manufacturer/exporter | Margin (dollars per kilogram)
PRC-wide entity (including Shanghai Sunbeauty Trading Co., Ltd.) | 2.63

Public Comment

Interested parties may submit written comments by no later than 30 days after the date of publication of this preliminary rescission of the new shipper review and these preliminary results of the administrative review.¹¹ Rebuttals, limited to issues raised in the written comments, may be filed by no later than five days after the written comments are due.¹²

¹¹ See 19 CFR 351.309(c).

¹² See 19 CFR 351.309(d).

Any interested party may request a hearing within 30 days of publication of this notice.¹³ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.¹⁴

¹³ See 19 CFR 351.310(c).

¹⁴ See 19 CFR 351.310(d).

The Department intends to issue the final results of these reviews, which will include the results of its analysis of issues raised in any such comments, within 120 days of publication of these preliminary results, pursuant to section 751(a)(2)(B)(iv) of the Act.

Assessment Rates

Upon completion of the final results of this new shipper review, pursuant to 19 CFR 351.212(b), the Department will determine, and the U.S. Customs and Border Protection (CBP) shall assess, antidumping duties on all appropriate entries. If we proceed to a final rescission of the new shipper review, Jiangsu Runchen's entries will be assessed at the rate entered.¹⁵ If we do not proceed to a final rescission of the new shipper review, pursuant to 19 CFR 351.212(b)(1), we will calculate importer-specific assessment rates. We will instruct CBP to assess antidumping duties on all appropriate entries covered by this review if any importer-specific assessment rate calculated in the final results of this review is above de minimis.¹⁶ The Department intends to issue assessment instructions to CBP 15 days after the publication of the final results of this new shipper review.

¹⁵ See 19 CFR 351.106(c)(2).

¹⁶ Id.

Upon issuance of the final results of this administrative review, the Department will determine, and CBP shall assess antidumping duties on all appropriate entries. We will instruct CBP to liquidate entries containing merchandise from the PRC-wide entity at the PRC-wide rate we determine in the final results of the review. If we do not continue to treat Sunbeauty as part of the PRC-wide entity, pursuant to 19 CFR 351.212(b)(1), we will calculate importer-specific assessment rates. We will instruct CBP to assess antidumping duties on all appropriate entries covered by this review if any importer-specific assessment rate calculated in the final results of this review is above de minimis.¹⁷ The Department intends to issue assessment instructions to CBP 15 days after the publication of the final results or rescission of this new shipper review and the final results of this administrative review.

¹⁷ Id.

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be the rate established in the final results of this review (except, if the rate is zero or de minimis, i.e., less than 0.5 percent, no cash deposit rate will be required for that company); (2) for previously investigated or reviewed PRC and non-PRC exporters not listed above that have separate rates, the cash deposit rate will continue to be the exporter-specific rate published for the most recently completed period; (3) for all PRC exporters of subject merchandise that have not been found to be entitled to a separate rate, the cash deposit rate will be the PRC-wide rate of $2.63 per kilogram; and, (4) for all non-PRC exporters of subject merchandise which have not received their own rate, the cash deposit rate will be the rate applicable to the PRC exporter(s) that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

This notice also serves as a final reminder to parties subject to administrative protective order (APO) in this administrative review of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

The Department is issuing and publishing these results in accordance with sections 751(a)(2)(B) and 777(i)(l) of the Act, and 19 CFR 351.214 and 19 CFR 351.221(b)(4).

Dated: June 29, 2017.
Ronald K. Lorentzen,
Acting Assistant Secretary for Enforcement and Compliance.

[FR Doc. 2017-14277 Filed 7-6-17; 8:45 am]

BILLING CODE 3510-DS-P